DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by August 22, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Secure Rural Schools Act.

OMB Control Number: 0596-0220.

Summary of Collection: The USDA Forest Service (FS) is requesting the extension of OMB approval to collect information from counties receiving funds under Title III of Secure Rural Schools (SRS) and Community Self-Determination Act (Act). The information will certify and describe the amounts expended and the uses of the funds during the applicable year. The FS is also requesting to collect information from the counties that will certify the amount of Title III funds received since October 2008 that has not been obligated as of September 30 of the previous year. The Department of the Interior (DOI), Bureau of Land Management (BLM), will coordinate on this information collection from counties in which the BLM administers Federal lands covered by the Act.

Section 303(a) of the Secure Rural Schools and Community Self-Determination Act of 2000 (the Act), reauthorized in Public Law 115-141, Public Law 110-343, Public Law 112-141, Public Law 113-40, and Public Law 114-10 requires the appropriate official of a county that receives funds under Title III of the Act to submit to the Secretary concerned (the Secretary of Agriculture or the Secretary of the Interior, as appropriate) an annual certification that the funds expended have been used for the uses authorized under section 302(a) of the Act.

Need and Use of the Information: The information collected will identify the participating county and the year in which the expenditures were made and will include amounts not obligated by September 30 of the previous year. Information includes the name, title, and signature of the official certifying that the expenditures were for uses authorized under section 302(a) of the Act, and the date of the certification. Information will also be collected including the amount of funds expended in the applicable year and the uses for which the amount were expended referencing the authorized categories; (1) carry out activities under the Firewise Communities program; (2) reimburse the participating county for emergency services performed on Federal land and paid for by the participating county; and (3) to develop community wildfire protection plans in coordination with the appropriate Secretary or designee. The information will be used to verify that participating counties have certified that funds were expended as authorized in the Act.

Description of Respondents: State, Local or Tribal Government.

Number of Respondents: 360.

Frequency of Responses: Reporting: Annually.

Total Burden Hours: 8,640.

Levi S. Harrell,
Departmental Information Collection Clearance Officer.

[FR Doc. 2022-15568 Filed 7-20-22; 8:45 am]

BILLING CODE 3411-15-P